DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), National Health Information Infrastructure Workgroup, Health Statistics for the 21st Century Workgroup.

Time and Date: November 20, 2000, 9 a.m.-5 p.m.

Place: National Center for Health Statistics (New Facility), 4105 Hopson Road, Research Triangle Park, North Carolina 27709, (919) 541-0171.

Status: Open.

Purpose: Two Workgroups of the NCVHS, the National Health Information Infrastructure Workgroup and the Health Statistics for the 21st Century Workgroup, are conducting a joint public hearing to solicit opinions from the public, including oral and written testimony, about the issues raised in two interim reports: “Toward a National Health Information Infrastructure” and “Shaping a Vision for 21st Century Health Statistics.” The interim reports may be downloaded from the NCVHS homepage at: http://www.ncvhs.hhs.gov/ and all participants are encouraged to review them before the meeting.

The hearing will explore challenges to the development and implementation of a National Health Information Infrastructure (NHII). As envisioned in the interim report, the NHII is the set of technologies, standards, applications, systems, values, and laws that support all facets of individual health, health care, and public health. The broad goal of the NHII is to deliver information to individuals—consumers, patients, and professionals—when and where they need it, so they can use this information to make informed decisions about health and health care. Speakers invited by the NHII workgroup will discuss barriers to accomplishing the objectives described in the report, including financial and technical barriers to the NHII, along with recommendations for actions which could be taken by the Federal government and others to overcome constraints.

The hearing will also seek comments about major trends and issues in population health and their implications for future information needs described in the report, “Shaping a Vision for 21st Century Health Statistics.” The report outlines themes that have emerged from national consultations involving health statistics users, public health providers, advocacy groups and health care providers at local, state, and Federal levels. Speakers invited by the 21st Century Workgroup will be asked to discuss specific local and state health statistics needs, specific means for generating private and public cooperation in defining health statistics needs and generating health statistics collaborations. Invited speakers will also be asked to provide specific comments and suggestions on the interim report, particularly as it relates to local and state health statistics needs and private and public cooperation.

The November hearing is the third of a series of joint public hearings to be conducted in several regions of the country through the fall of 2000 to solicit testimony on the reports. Information from the hearings will be incorporated in the final reports expected to be completed in early 2001.

Persons who would like to make a brief oral comment (3-5 minutes) during the November hearing will be placed on the agenda as time permits. To be included on the agenda, please submit testimony by November 8, 2000, to Patrice Upchurch at (301) 458-4540, by e-mail at pupchurch@cdc.gov, or postal address at NCHS, Presidential Building, Room 1100, 6525 Belcrest Road, Hyattsville, Maryland 20782. Persons wishing to submit written testimony only (no more than 2-3 typewritten pages) should also adhere to the due date of November 8, 2000. Testimony will also be accepted on-site as time permits. Please consult Ms. Upchurch for further information about these arrangements. Additional information about the meeting will be provided on the NCVHS homepage at: http://www.ncvhs.hhs.gov/ shortly before the meeting date.

Contact Person for More Information: Substantive program information as well as summaries of meetings and a roster of committee members may be obtained from Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/.

Dated: October 23, 2000.
James Scanlon,
Director, Division of Data Policy, Office of the Assistant Secretary for Planning and Evaluation.

[FR Doc. 00-27748 Filed 10-27-00; 8:45 am]

BILLING CODE 4151-05-M